DEPARTMENT OF DEFENSE

Defense Acquisition Regulations System

[Docket Number DARS-2014-0052]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act (44 U.S.C. 35).

DATES: Consideration will be given to all comments received by January 29, 2015.

SUPPLEMENTARY INFORMATION: Title, Associated Form, and OMB Number: Defense Federal Acquisition Regulation Supplement (DFARS), Independent Research and Development Technical Descriptions; OMB Control Number 0704-0483.

Type of Request: Extension.

Number of Respondents: 700.

Responses per Respondent: Approximately 38.5.

Annual Responses: 26,950.

Average Burden per Response: Approximately .5 hours.

Annual Response Burden Hours: 13,475.

Needs and Uses: DFARS 231.205-18 requires contractors to report independent research and development (IR&D) projects to the Defense Technical Information Center (DTIC) using the DTIC's online IR&D database. The data provides in-process information on IR&D projects for which DoD reimburses the contractor as an allowable indirect expense. In addition to improving the Department's ability to determine whether contractor IR&D costs are allowable, the data provides visibility into the technical content of industry IR&D activities to meet DoD needs.

Affected Public: Businesses and other for-profit entities.

Reporting Frequency: At least annually and when the project is completed.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Public Collections Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Manuel Quinones,
Editor, Defense Acquisition Regulations System.

[FR Doc. 2014-30463 Filed 12-29-14; 8:45 am]

BILLING CODE 5001-06-P